ENVIRONMENTAL PROTECTION AGENCY

[FRL-7380-5]

Meeting of the Local Government Advisory Committee

AGENCY: Environmental Protection Agency (EPA).

ACTION: Notice.

SUMMARY: The Local Government Advisory Committee (LGAC) will meet on October 10-11, 2002, in Washington, DC. During the two days, the Committee meeting as working groups, and as a body, will consider a number of issues related to the management of environmental protection programs and local governments. During the meeting, the Committee will be gathering information on a variety of subjects and will make decisions on topics to follow in the months ahead.

Topics to be considered by working groups include: Sprawl and federal policies, the status of storm water regulation, water infrastructure issues, and solid waste, re-use and energy issues. In plenary sessions, the Committee will receive presentations on environmental indicator activities, environmental management issues in the Great Lakes and discuss upcoming issues in water effluent guidelines and emerging issues in fine particulate management.

The Committee will hear comments from the public between 9:45 a.m.-10 a.m., October 11. Each individual or organization wishing to address the LGAC meeting will be allowed a maximum of five minutes to present their point of view. Please contact the Designated Federal Officer (DFO) at the numbers listed below to schedule agenda time. Time will be allotted on a first come, first served basis, and the total period for comments may be extended, if the number of requests for appearances required it.

These are open meetings and all interested persons are invited to attend. LGAC meeting minutes and Subcommittee summary notes will be available after the meetings and can be obtained by written request from the DFO. Members of the public are requested to call the DFO at the number listed below if planning to attend so that arrangements can be made to comfortably accommodate attendees as much as possible, and to facilitate security clearance to the meeting. Seating will be on a first come, first served basis.

DATES: Work Group sessions will be held on October 10. The Local Government Advisory Committee plenary session will begin at 8 a.m. Friday, October 11 and conclude at 3 p.m.

ADDRESSES: The meetings will be held in Washington, DC. Work group sessions will be held at EPA Headquarters, in conference rooms 4128 and 5126 in the EPA West Building, located at 1301 Constitution Ave., NW. Meeting Registration will be conducted in 1117B EPA East Building, located 1201 Constitution Ave., NW. The LGAC plenary session will be held on Friday at the Marriott Residence Inn, located at 1199 Vermont Ave., NW., in the Washington/Jefferson conference room.

Additional information can be obtained by writing the DFO at 1200 Pennsylvania Avenue, NW. (1306A), Washington, DC 20460.

FOR FURTHER INFORMATION CONTACT: The DFO for the Local Government Advisory Committee (LGAC) is Paul Guthrie (202) 564-3649.

Dated: September 10, 2002.
Paul N. Guthrie,
Designated Federal Officer, Local Government Advisory Committee.

[FR Doc. 02-23992 Filed 9-19-02; 8:45 am]

BILLING CODE 6560-50-P